DEPARTMENT OF AGRICULTURE

Animal and Plant Health Inspection Service

[Docket No. APHIS-2020-0024]

Notice of Decision To Authorize the Importation of Fresh Pineapple (Ananas comosus) Fruit From Indonesia Into the United States

AGENCY: Animal and Plant Health Inspection Service, USDA.

ACTION: Notice.

SUMMARY: We are advising the public of our decision to authorize the importation of fresh pineapple fruit (Ananas comosus) for consumption from Indonesia into the United States. Based on findings of a pest risk analysis, which we made available to the public for review and comment through a previous notice, we have determined that the application of one or more designated phytosanitary measures will be sufficient to mitigate the risks of introducing or disseminating plant pests or noxious weeds via the importation of fresh pineapple fruit (Ananas comosus) for consumption from Indonesia into the United States.

DATES: Imports may be authorized beginning May 29, 2025.

FOR FURTHER INFORMATION CONTACT: Ms. Gina Stiltner, Senior Regulatory Policy Specialist, Regulatory Coordination and Compliance, PPQ, APHIS, 1400 Independence SW, Washington, DC 20250; (518) 760-2468; Gina.L.Stiltner@USDA.gov.

SUPPLEMENTARY INFORMATION:

Background

Under the regulations in “Subpart L—Fruits and Vegetables” (7 CFR 319.56-1 through 319.56-12, referred to below as the regulations), the U.S. Department of Agriculture's (USDA's) Animal and Plant Health Inspection Service (APHIS) prohibits or restricts the importation of fruits and vegetables into the United States from certain parts of the world to prevent plant pests from being introduced into or disseminated within the United States.

Section 319.56-4 contains a performance-based process for approving the importation of commodities that, based on the findings of a pest risk analysis, can be safely imported subject to one or more of the designated phytosanitary measures listed in paragraph (b) of that section. Under that process, APHIS proposes to authorize the importation of a fruit or vegetable into the United States if, based on findings of a pest risk analysis, we determine that the measures can mitigate the plant pest risk associated with the importation of that fruit or vegetable. APHIS then publishes a notice in the Federal Register announcing the availability of the pest risk analysis that evaluates the risks associated with the importation of a particular fruit or vegetable. Following the close of the 60-day comment period, APHIS will issue a subsequent Federal Register notice announcing whether or not we will authorize the importation of the fruit or vegetable subject to the phytosanitary measures specified in the notice.

In accordance with that process, we published a notice ¹ in the Federal Register on December 30, 2024 (89 FR 106416-106417, Docket No. APHIS-2020-0024), in which we announced the availability, for review and comment, of a pest risk analysis that evaluated the risks associated with the importation of fresh pineapple fruit (Ananas comosus) ² for consumption from Indonesia into the United States. The pest risk analysis consisted of a pest risk assessment identifying pests of quarantine significance that could follow the pathway of the importation of fresh pineapple fruit (Ananas comosus) for consumption from Indonesia into the United States and a risk management document (RMD) identifying phytosanitary measures to be applied to that commodity to mitigate the pest risk.

¹ To view the notice, the supporting documents, and comments received, go to www.regulations.gov. Enter APHIS-2020-0024 in the Search field.

² In our pest risk analysis, APHIS considered the importation pathway to include whole pineapple fruit with or without crown.

We solicited comments on the notice for 60 days, ending on February 28, 2025. We received four comments by that date. They were from the national plant protection organization (NPPO) of Indonesia, two representatives of plant health agencies in Indonesia, and an industry organization in Indonesia.

Three of the commenters requested that the variety limitation for market access be removed. One commenter stated that if the pineapples are harvested while at least 70 percent mature, varietal restrictions are unwarranted. This commenter cited export protocols for pineapples from Indonesia to China and New Zealand that do not have varietal restrictions. Two commenters asked that the restrictions be removed to allow importation of a Queen variety of pineapple, which is grown in Indonesia and currently exported to five countries. These commenters stated that the fruit fly pests have not been reported to them by the receiving countries. One commenter requested that the restrictions be relieved for MD2, a pineapple that the commenter stated shares morphological characteristics with the Smooth Cayenne variety that made it similarly inhospitable as a host for Bactrocera spp. This latter commenter provided an unpublished study in support of their request.³

³ To view the study, attached to the comment, go to www.regulations.gov. Enter APHIS-2020-0024 in the Search field.

Under APHIS' regulations in 7 CFR part 319.5, if a change to our import requirements for plants and plant products is requested, the NPPO of the country from which the commodities would be exported must submit information to APHIS regarding the requested change. This information must include, among other things, the scientific name, synonyms, and taxonomic classification of the commodity.

In accordance with these regulations, the NPPO of Indonesia submitted a request to authorize the importation into the United States of fresh pineapple from Indonesia. Our pest risk assessment therefore evaluated the plant pest risk associated with the importation into the United States of fresh pineapple from Indonesia, broadly construed.

However, our RMD proposed different conditions for importation of Smooth Cayenne varieties and hybrids than for other varieties. This was, as the RMD noted, based on long-standing scientific literature documenting that the Smooth Cayenne variety does not support eggs or larvae of the oriental fruit fly, Bactrocera dorsalis, even when the variety is grown in areas of high oriental fruit fly populations.

There is a possibility that harvesting pineapples before full ripeness may be a sufficient mitigation for fruit fly risk, thus obviating the need for varietal restrictions. However, we were unable to locate peer-reviewed data supporting the assertion that harvesting pineapples up to 70 percent ripeness obviates the need for any other risk management measure targeting fruit flies.

The absence of pest detections on Queen variety pineapples exported from Indonesia to other countries does not, in and of itself, indicate that Smooth Cayenne variety and Queen variety pineapples from Indonesia are of equivalent plant pest risk. That said, we did endeavor to find evidence that the Queen variety that the commenters mentioned is also at least 50 percent Smooth Cayenne, but no such evidence was available.

Accordingly, based on the absence of peer-reviewed evidence in support of the above requests, we are not able to grant them at this time and within the context of this notice. We do, however, welcome such data and, if provided, may take appropriate action to revise market access for fresh pineapples from Indonesia.

With regard to the MD2 variety, APHIS has evaluated the relevant data and determined that the MD2 variety satisfies the requirement that pineapples be at least 50 percent Smooth Cayenne by lineage. This notice will therefore allow the importation without treatment of MD2 variety pineapple fruit in addition to any variety of pineapple that is shown to have at least 50 percent Smooth Cayenne parentage. We have issued an updated RMD (dated April 29, 2025) with the justification section updated to reflect this determination. To obtain a copy of the updated RMD, you can contact the person listed in the FOR FURTHER INFORMATION CONTACT section.

Commenters also requested APHIS revise its “Medium” risk classification in the pest list for Bactrocera dorsalis, based on Indonesia's trade records, which they stated have indicated no complaints for that pest. The commenters attributed the trouble-free pineapple export record to pest management practices in Indonesia.

We did not consider standard agricultural practices, such as field mitigations that would control B. dorsalis, or, in fact, the application of any other mitigations, in developing the pest risk assessment, unless we could conclusively associate them with commercial production of pineapples in Indonesia. We did identify culling and washing as standard commercial practices used within Indonesia for commercially produced pineapple.

We acknowledge that the likelihood of B. dorsalis entering with the commodity may be Low as it mainly infests damaged or overripe fruit. APHIS rated the pest risk potential as Medium in the pest risk assessment, however, due to the High likelihood of establishment in the United States and the unacceptable risk posed by an introduction of B. dorsalis on U.S. agriculture. Additionally, and as mentioned in the RMD, B. dorsalis is far less likely to attack and develop in pineapples of the Smooth Cayenne variety, or those with Smooth Cayenne parentage. Further, commercial practices, such as culling of damaged fruit, will further reduce the likelihood that B. dorsalis will enter the United States on fresh pineapple fruit from Indonesia. Thus, APHIS determined that a revision to the risk classification for B. dorsalis was not warranted.

Some commenters indicated that commercial irradiation and vapor heat treatment facilities for quarantine treatment of plants are not present in Indonesia, so the commodities would need to be treated in the United States. One commenter requested that APHIS consider recognizing and certifying irradiation facilities in Indonesia.

As stated in the RMD, APHIS notes that irradiation, carried out in accordance with the provisions of 7 CFR part 305, which contains our regulations governing phytosanitary treatments, is approved as a treatment for any imported regulated article. In this regard, 305.9 stipulates the required certifications, agreements, workplans, preclearance notifications, and payment for inspection and monitoring of irradiation facilities located in foreign countries. Likewise, vapor heat treatment may be conducted in facilities in foreign countries, if the facility has been approved by APHIS in accordance with 305.8 and treatment is conducted in accordance with that section. APHIS can assess whether these provisions have been met when Indonesia's NPPO considers Indonesia to have facilities that would meet the requirements of the regulations.

Therefore, in accordance with § 319.56-4(c)(3)(iii), we are announcing our decision to authorize the importation into the United States of fresh pineapple fruit (Ananas comosus) with or without the crown for consumption from Indonesia subject to the phytosanitary measures identified in the updated RMD that accompanied the initial notice.

These conditions will be listed in the USDA, APHIS ACIR database (https://acir.aphis.usda.gov/s/). In addition to these specific measures, each shipment must be subject to the general requirements listed in § 319.56-3 that are applicable to the importation of all fruits and vegetables.

Paperwork Reduction Act

In accordance with the Paperwork Reduction Act of 1995 (44 U.S.C. 3501 et seq.), the recordkeeping and burden requirements associated with this action are included under the Office of Management and Budget control number 0579-0049.

E-Government Act Compliance

The Animal and Plant Health Inspection Service is committed to compliance with the E-Government Act to promote the use of the internet and other information technologies, to provide increased opportunities for citizen access to Government information and services, and for other purposes. For information pertinent to E-Government Act compliance related to this notice, please contact APHIS.PRA@usda.gov.

(Authority: 7 U.S.C. 1633, 7701-7772, and 7781-7786; 21 U.S.C. 136 and 136a; 7 CFR 2.22, 2.80, and 371.3.)

Done in Washington, DC, this 22nd day of May 2025.
Michael Watson,
Administrator, Animal and Plant Health Inspection Service.

[FR Doc. 2025-09657 Filed 5-28-25; 8:45 am]

BILLING CODE 3410-34-P